ENVIRONMENTAL PROTECTION AGENCY

[EPA-HQ-OEI-2006-0037; FRL-9982-33-OEI]

Information Collection Request Submitted to OMB for Review and Approval; Comment Request; Exchange Network Grants Progress Reports (Renewal)

AGENCY: Environmental Protection Agency (EPA).

ACTION: Notice.

SUMMARY: The Environmental Protection Agency has submitted an information collection request (ICR), Exchange Network Grants Progress Reports (EPA ICR No. 2207.07, OMB Control No. 2025-0006) to the Office of Management and Budget (OMB) for review and approval in accordance with the Paperwork Reduction Act. This is a proposed extension of the ICR, which is currently approved through August 31, 2018. Public comments were previously requested via the Federal Register on March 5, 2018 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 20, 2018.

ADDRESSES: Submit your comments, referencing Docket ID Number EPA-HQ-OEI-2006-0037, to (1) EPA online using www.regulations.gov (our preferred method), by email to oira_submission@omb.eop.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Edward Mixon, Information Exchange Services Division, Office of Information Management (2823T), Environmental Protection Agency, 1200 Pennsylvania Ave. NW, Washington, DC 20460; telephone number: 202-566-2142; fax number: 202-566-1684; email address: mixon.edward@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the U.S. EPA National Environmental Information Exchange Network (NEIEN) Grant Program, EPA collects information from the NEIEN grantees on assistance agreements that EPA has awarded. Specifically, for each project, EPA proposes to have grantees submit semi-annual reports on the progress and current status of each goal and output, completion dates for outputs, and any problems encountered. This information will help EPA ensure projects are on schedule to meet their goals and produce high quality environmental results. New award recipients will complete one Quality Assurance Reporting Form for each award. This form provides a simple means for grant recipients to describe how quality will be addressed throughout their projects. Additionally, the Quality Assurance Reporting Form is derived from guidelines provided in the NEIEN 2018 Grant Solicitation Notice.

Form Numbers: EPA Form 5300-26 (Semi-Annual Progress Report Form) and EPA Form 5300-27 (Quality Assurance Reporting Form).

Respondents/affected entities: State, tribal, and territorial environmental government offices.

Respondent's obligation to respond: Required to obtain or retain benefits (2 CFR part 200 and 2 CFR part 1500).

Estimated number of respondents: 172 (total).

Frequency of response: Twice per year for the Semi-Annual Progress Report Form; one time per grant for the Quality Assurance Reporting Form.

Total estimated burden: 280 hours (per year). Burden is defined at 5 CFR 1320.03(b)

Total estimated cost: $16,187 (per year), includes $0 annualized capital or operation & maintenance costs.

Changes in the Estimates: There is a decrease of 60 hours in the total estimated respondent burden compared with the ICR currently approved by OMB. This is due to a slight decrease in the number of grants (from 200 to 172) that are expected to be awarded annually during the period of this ICR.

Courtney Kerwin,
Director, Regulatory Support Division.

[FR Doc. 2018-17872 Filed 8-20-18; 8:45 am]

BILLING CODE 6560-50-P